DEPARTMENT OF TRANSPORTATION

Federal Railroad Administration

[Docket Number FRA-2007-27287]

Petition for Waiver of Compliance

Under part 211 of title 49 of the Code of Federal Regulations (CFR), this provides the public notice that by letter received January 18, 2020, BNSF Railway (BNSF) petitioned the Federal Railroad Administration (FRA) for an extension of a waiver of compliance contained in Docket Number FRA-2007-27287.

Specifically, BNSF seeks a second extension of relief from the 2-year periodic testing requirements in §§ 236.377, Approach locking; 236.378, Time locking; 236.379, Route locking; 236.380, Indication locking; and 236.381, Traffic locking.

BNSF states that since the original waiver approval, 95.2% of all eligible locations across BNSF's network have been enrolled in this waiver program and received waiver-based locking tests on the extended schedule with no issues. BNSF is confident that by using this method, it has reduced the amount of disruption to signal circuits and operations while spending less time foul of track. Leveraging the benefits of technology and reducing the opportunity for human failure yields additional safety benefits, making this BNSF's desired method for performing these tests.

BNSF requests to extend the waiver indefinitely. BNSF states it will maintain the testing procedures and testing interval as outlined in the waiver. BNSF further asks to eliminate the requirement to submit to FRA an annual updated listing of the eligible locations, because BNSF has already enrolled the substantial majority of eligible locations.

A copy of the petition, as well as any written communications concerning the petition, is available for review online at www.regulations.gov and in person at the Department of Transportation's Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by March 16, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Issued in Washington, DC.
John Karl Alexy,
Associate Administrator for Railroad Safety Chief Safety Officer.

[FR Doc. 2020-01672 Filed 1-29-20; 8:45 am]

BILLING CODE 4910-06-P